DEPARTMENT OF HOUSING AND URBAN DEVELOPMENT

[Docket No. FR-7075-N-16]

60-Day Notice of Proposed Information Collection: Data Collection for the HUD Secretary's Awards Including the Secretary's Award for Public-Philanthropic Partnerships, the Secretary's Awards for Healthy Homes, the Secretary's Award in Historic Preservation, the Secretary's Award for Planning, the Secretary's Housing Design Awards, the Secretary's Award for Tribal Housing Impact, and the HUD Innovation in Affordable Housing Student Design and Planning Competition; OMB Control No.: 2528-0324

Correction

In notice document 2023-27701 appearing on pages 87448-87450 in the issue of December 18, 2023, make the following correction:

On page 87448, in the second column, after the DATES heading, in the first and second lines, “January 17, 2024” should read “February 16, 2024”.

[FR Doc. C1-2023-27701 Filed 1-4-24; 8:45 am]

BILLING CODE 0099-10-P